DEPARTMENT OF JUSTICE

[OMB No. 1121-0094]

Agency Information Collection Activities; Existing Collection; Comments Requested;Extension of a Currently Approved Collection: Annual Survey of Jails

ACTION: 30-Day Notice.

The Department of Justice (DOJ), Bureau of Justice Statistics, will be submitting the following information collection request to the Office of Management and Budget (OMB) for review and approval in accordance with the Paperwork Reduction Act of 1995. The proposed information collection is published to obtain comments from the public and affected agencies. The proposed information was previously published in the Federal Register Volume 78, Number 4, pages 959-961 on Monday, January 7, 2013, allowing a 60-day comment period. The burden estimate for local jails in the Annual Survey of Jails increased from 929 respondents as indicated in the 60-day notice to 950 respondents, due to the inclusion of 21 respondents from all other California jail jurisdictions not originally selected in the sample survey.

The purpose of this notice is to allow for an additional 30 days for public comment April 15, 2013.

If you have comments especially on the estimated public burden or associated response time, suggestions, or need a copy of the proposed information collection instrument with instructions or additional information, please contact Todd D. Minton, Bureau of Justice Statistics, 810 Seventh Street NW., Washington, DC 20531 (phone: 202-305-9630).

Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agencies estimate of the burden of the proposed collection of information, including the validity of the methodology and assumptions used;

—Evaluate whether and if so how the quality, utility, and clarity of the information to be collected can be enhanced; and

—Ways to minimize the burden of the collection of information on those who are to respond, including through the use of appropriate automated, electronic, mechanical, or other technological collection techniques or other forms of information technology, e.g., permitting electronic submission of responses.

Overview of This Information Collection

(1) Type of Information Collection: Revisions of a currently approved collection.

(2) Title of the Form/Collection: The Annual Survey of Jails (ASJ). The collection includes the forms: Annual Survey of Jails (ASJ), which includes the regular form and the certainty jurisdiction form; and the Survey of Jails in Indian Country (SJIC) regular form.

(3) Agency form number, if any, and the applicable component of the Department of Justice sponsoring the collection: Form numbers include:

• Annual Survey of Jails: This collection consists of four forms:

○ CJ-5 and CJ-5A, the ASJ regular forms: These forms go to jail jurisdictions in the ASJ sample that are not selected with certainty. The CJ-5 form goes to jail jurisdictions operated by the county or city and the CJ-5A goes to privately owned or operated confinement facilities. In an effort to assess the recent impact California jails have on the national jail population due to significant correctional policy changes in that state, non-sampled jail jurisdiction from California will also be included in the data collection, but not included in the national jail population estimate;

○ CJ-5D and CJ-5DA, the ASJ certainty jurisdiction forms: The forms go to jail jurisdictions in the ASJ sample that are selected with certainty. The CJ-5D and CJ-5DA request additional information about the distribution of time served, staffing, and inmate misconduct that are not requested on the CJ-5 and CJ-5A. The CJ-5D goes to jurisdictions operated by the county or city; the CJ-5DA goes to confinement facilities administered by two or more governments and privately owned or operated confinement facilities.

• Survey of Jails in Indian Country (SJIC): All respondents receive the CJ-5B (the SJIC regular form).

The applicable component of the Department of Justice sponsoring the collection is the Bureau of Justice Statistics, which is within the Office of Justice Programs.

(4) Affected public who will be asked or required to respond, as well as a brief abstract: The affected public that will be asked to respond include approximately 1,000 county, city, and Tribal jail authorities (950 respondents to the ASJ and 82 to the SJIC). As community institutions that book an estimated 12 million inmates per year, local jails are an integral part of the justice system, operating at the front end (that is, following arrest or referral) as well as the back end (discharging inmates and holding those sentenced to jail). Their broad functions include handling inmates who are awaiting trial or sentencing, holding inmates for other authorities, detaining inmates with special needs such as mental health holds or alcohol detoxifications, transferring inmates to court appearances and bringing them back to detention, discharging inmates at the behest of the court or other entities, and holding inmates who have been sentenced to terms in jail.

In response to the increase in the California jail population as the result of legislature and governor enacted laws to reduce the number of inmates housed in state prisons, BJS plans to collect data from the non-selected California jails in the sample survey to assess the impact on the national jail population. On May 23, 2011, the U.S. Supreme Court upheld the ruling by a lower three-judge court that the State of California must reduce its prison population to 137.5% of design capacity (approximately 110,000 prisoners) within two years to alleviate overcrowding. In response, the California State Legislature and governor enacted two laws—AB 109 and AB 117—to reduce the number of inmates housed in state prisons starting October 1, 2011. The Public Safety Realignment (PSR) policy is designed to reduce the prison population through normal attrition of the existing population while placing new nonviolent, nonserious, nonsexual offenders under county jurisdiction for incarceration in local jail facilities. Inmates released from local jails will be placed under a county-directed post-release community supervision program (PRCS) instead of the state's parole system.

The set of collections in this package provides BJS with the capacity to track and analyze changes in the jail inmate population that might signal changes in the kinds of cases coming into or leaving the criminal justice system, and to analyze how the volatility of jail inmate populations affects the workload of jails and their capacities to provide services. The parallel structure of the SJIC collection provides BJS with this capacity for Indian country jails.

In its entirety, this collection is the only national effort devoted to describing and understanding annual changes in jail populations as well as assessing programs and capacities to provide services. The collection enables BJS, other federal agencies, and state, local, and Tribal corrections authorities and administrators, as well as legislators, researchers, and jail planners to track growth in the number of jails and their capacities nationally; as well as, track changes in the demographics and supervision status of jail population and the prevalence of crowding.

The forms and information content for this collection are outlined next in the following order: First, the components of the Annual Survey of Jails (ASJ), which include the CJ-5, CJ-5A, CJ-5D, and CJ-5DA. Second, the Survey of Jails in Indian Country (SJIC) includes the CJ-5B.

The two components of the Annual Survey of Jails include the CJ-5/5A and CJ-5D/5DA forms. The CJ-5/5A forms are to be administered to ASJ sample elements that are selected with a probability of less than 1. The CJ-5D/5DA forms are to be administered to ASJ sample elements selected with certainty.

CJ-5 and CJ-5A

For these forms, 555 respondents from sampled county and city jails and 21 respondents from non-selected California jails will be asked to provide information for the following categories:

(a) At midyear (last weekday in the month of June), the number of inmates confined in jail facilities including; male and female adult and juvenile inmates; persons under age 18 held as adults; race categories; held for Federal authorities, State prison authorities and other local jail jurisdictions.

(b) At midyear, the number of convicted inmates that are unsentenced or sentenced and the number of unconvicted inmates awaiting trial/arraignment, or transfers/holds for other authorities.

(c) At midyear, the number of persons under jail supervision who were not U.S. citizens.

(d) Whether the jail facilities has a weekend incarceration program prior to midyear and the number of inmates participating.

(e) The number of new admissions into and final discharges from jail facilities during the last week in June.

(f) The date and count for the greatest number of confined inmates during the 30-day period in June.

(g) The average daily population of jail facilities from July 1 of the previous year to June 30 of the current collection year.

(h) Jail capacity, measured three ways: Rated capacity, operating capacity, and design capacity.

(i) At midyear, the number of persons under jail supervision but not confined (e.g., electronic monitoring, day reporting, etc.)

CJ-5D and CJ-5DA

These forms will be administered to the certainty jurisdictions in the ASJ sample; in addition to the information collected in the regular ASJ forms (the CJ-5/5A), the 374 respondents that are included with certainty in the ASJ sample survey will be asked to provide additional information on the flow of inmates going through jails and the distribution of time served, staff characteristics and assaults on staff resulting in death, and inmate misconduct. More specifically, these include:

(a) The distribution of time served by inmates discharged during the final week of June, broken out by whether the inmates were convicted or unconvicted.

(b) At midyear, the number of correctional officers and other staff employed by jail facilities;

(c) From July 1 of the previous year to June 30 of the current collection year: The number of inmate-inflicted physical assaults (and counts) on correctional officers and other staff and the number of staff deaths as a result.

(d) From July 1 of the previous year to June 30 of the current collection year: The number of inmates, by category, who were written up or found guilty of a rule violation.

CJ-5B

The Survey of Jails in Indian Country is collected from Indian country correctional facilities operated by tribal authorities or the Bureau of Indian Affairs (BIA) (currently there are 82) will be asked to provide information for the following categories:

(a) At midyear (last weekday in the month of June), the number of inmates confined in jail facilities including; male and female adult and juvenile inmates; persons under age 18 held as adults; convicted and unconvicted males and females; persons held for a felony, misdemeanor; their most serious offense (e.g., domestic violence offense, aggravated or simple assault, burglary, public intoxication, driving while intoxicated, etc.)

(b) The average daily population during the 30-day period in June;

(c) The date and count for the greatest number of confined inmates during the 30-day period in June;

(d) The number of new admissions into and final discharges during the month of June;

(e) From July 1 of the previous year to June 30 of the current collection year: The number of inmate deaths while confined and the number of deaths attributed to suicide and the number of confined inmates that attempted suicide;

(f) At midyear, the total rated capacity of jail facilities;

(g) At midyear, the number correctional staff employed by the facility and their occupation (e.g., administration, jail operations, educational staff, etc.);

(h) At midyear, how many jail operations employees had received the basic detention officer certification and how many had received 40 hours of in-service training;

(5) An estimate of the total number of respondents and the amount of time estimated for an average respondent to respond: Six hundred and fifty-eight respondents each taking an average 75 minutes to respond for collection forms CJ-5 and CJ-5A, and CJ-5B. Three hundred and seventy-four respondents each taking 120 minutes to respond for collection forms CJ-5D and CJ-5DA.

(6) An estimate of the total public burden (in hours) associated with the collection: There are an estimated 1,571 total burden hours associated with this collection.

If additional information is required contact: Jerri Murray, Department Clearance Officer, U.S. Department of Justice, Justice Management Division, Policy and Planning Staff, Two Constitution Square, 145 N Street NE., Room 1407B, Washington, DC 20530.

Dated: March 12, 2013.
Jerri Murray,
Department Clearance Officer, PRA, U.S. Department of Justice.

[FR Doc. 2013-06011 Filed 3-14-13; 8:45 am]

BILLING CODE 4410-18-P